DEPARTMENT OF THE INTERIOR

Bureau of Land Management

[BLM_OR_FRN_MO4500170662]

Notice of Public Meeting for the Southeast Oregon Resource Advisory Council

AGENCY: Bureau of Land Management, Interior.

ACTION: Notice of public meeting.

SUMMARY: In accordance with the Federal Land Policy and Management Act of 1976 and the Federal Advisory Committee Act of 1972, the U.S. Department of the Interior, Bureau of Land Management's (BLM's) Southeast Oregon Resource Advisory Council (RAC) will meet as follows.

DATES: The Southeast Oregon RAC will meet Tuesday and host a field tour Wednesday, June 27 and 28, 2023, from 8 a.m. to 4:30 p.m. Pacific Time each day. All meetings are open to the public. There will be a virtual participation option available for the Tuesday meeting. A public comment period will be offered at 3 p.m. Tuesday, June 27. Participation instructions will be available on the RAC's web page in advance of the meeting at https://www.blm.gov/get-involved/resource-advisory-council/near-you/oregon-washington/southeast-oregon-rac. The Wednesday, June 28 meeting will consist of a field tour, and no virtual participation option will be available.

At 8 a.m. on Wednesday, June 28, the RAC will depart for a tour of the McDermitt Caldera, which is expected to last the full day. To participate in the tour, please notify RAC coordinator Larisa Bogardus at (541) 219-6863 or lbogardus@blm.gov no later than 4:30 p.m. Tuesday, June 20, 2023, so arrangements can be made to accommodate the group size. Members of the public are welcome on the field tour but must provide their own transportation and meals.

ADDRESSES: The Tuesday meeting will be held at the McDermitt Community Hall, 175 S. US Highway 95, McDermitt, NV 89421. The field tour on Wednesday will depart from the same location. The final agenda and additional meeting details will be posted at least 10 days in advance of the meeting on the RAC web page: https://www.blm.gov/get-involved/resource-advisory-council/near-you/oregon-washington/southeast-oregon-rac.

Public comments can be mailed to BLM Vale District, Attn: Wayne Monger, 100 Oregon St., Vale, OR 97918 or sent via email to dmonger@blm.gov. All comments received will be provided to the Southeast Oregon RAC members.

FOR FURTHER INFORMATION CONTACT: Larisa Bogardus, Public Affairs Officer, 3100 H St., Baker City, Ore. 97814; telephone: (541) 219-6863; email: lbogardus@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Southeast Oregon RAC is chartered, and the 15 members are appointed by the Secretary of the Interior. Their diverse perspectives represent commodity, non-commodity, and local interests. The RAC serves in an advisory capacity to BLM and U.S. Forest Service officials concerning planning and management of public land and national forest resources located, in whole or in part within the boundaries of the BLM's Vale, Burns, and Lakeview Districts and the Fremont-Winema and Malheur National Forests. All meetings are open to the public in their entirety. Information to be distributed to the RAC is requested before the start of each meeting.

The meeting will include an orientation to mining law; a presentation regarding lithium exploration in the McDermitt Caldera area; a presentation regarding the Calico/Grassy Mountain gold mine proposal; updates regarding the Southeast Oregon and Lakeview Resource Management Plan amendment processes; and any other business that may reasonably come before the RAC. In addition, a field tour of the McDermitt Caldera, managed by Vale District, will be conducted Wednesday, June 28.

Meeting Accessibility/Special Accommodations: For sign language interpreter services, assistive listening devices, or other reasonable accommodations, please contact Larisa Bogardus, Vale District Bureau of Land Management (see FOR FURTHER INFORMATION CONTACT) at least 7 business days before the meeting to ensure there is sufficient time to process the request. The Department of the Interior manages accommodation requests on a case-by-case basis.

As noted earlier (see DATES), the public may address the Southeast Oregon RAC during the public comment portions of the meeting on June 27, 2023. Depending on the number of persons wishing to speak, the time for individual comments may be limited.

Before including your address, phone number, email address, or other personal identifying information in your comments, please be aware that your entire comment—including your personal identifying information—may be made publicly available at any time. While you can ask us in your comment to withhold your personal identifying information from public review, we cannot guarantee we will be able to do so.

The Designated Federal Officer will attend the meeting, take minutes, and publish these minutes on the RAC's web page at: https://www.blm.gov/get-involved/resource-advisory-council/near-you/oregon-washington/southeast-oregon-rac.

(Authority: 5 U.S.C. 10.)

Darrel W. Monger,
Vale District Manager.

[FR Doc. 2023-09287 Filed 5-1-23; 8:45 am]

BILLING CODE 4331-24-P